ADVISORY COUNCIL ON HISTORIC PRESERVATION

Notice of Meeting on Corps of Engineers' Chancellorsville Battleground Permit

AGENCY: Advisory Council on Historic Preservation.

ACTION: Notice of meeting on Corps of Engineers' Chancellorsville Battleground permit issue.

SUMMARY: The Advisory Council on Historic Preservation will hold a public meeting in preparation for issuing formal comments, under the National Historic Preservation Act, to the Corps of Engineers regarding its intent to issue a permit for a project on a site associated with the Civil War Battle of Chancellorsville.

DATES: Tuesday, July 1, 2003—beginning at 6:30 p.m.

ADDRESSES: Massaponax High School auditorium, 8201 Jefferson Davis Highway, Fredericksburg, VA 22407. For driving directions see the Massaponax High School Web site at www.spotsylvania.k12.va.us/mhs/default2.asp.

FOR FURTHER INFORMATION CONTACT: Dr. Tom McCulloch, (202) 606-8505. E-mail tmcculloch@achp.gov.

SUPPLEMENTARY INFORMATION: The Advisory Council on Historic Preservation (ACHP) is an independent Federal agency, established by the National Historic Preservation Act (NHPA), that promotes the preservation, enhancement, and productive use of our Nation's historic resources, and advises the President and Congress on national historic preservation policy. Among other things, the ACHP issues formal comments to Federal agencies per section 106 of the NHPA. Section 106 of the NHPA requires Federal agencies to take into account the effects of their undertakings on historic properties and afford the ACHP a reasonable opportunity to comment on such undertakings. The procedures in 36 CFR part 800 define how Federal agencies meet these statutory responsibilities.

The ACHP will hold a public meeting July 1, 2003, beginning at 6:30 p.m. at Massaponax High School, Fredericksburg, Virginia. The purpose of the meeting is to gather testimony on the U.S. Army Corps of Engineers Norfolk District's evaluation of a permit application pursuant to section 404 of the Clean Water Act for six road crossings over streams associated with a proposed 273-acre residential subdivision. The property, known as the Ashley-Orrock tract, is located on land eligible for listing in the National Register of Historic Places. It occupies parts of the site associated with the Civil War Battle of Chancellorsville. Following the meeting, the ACHP will develop comments, under section 106 of the NHPA, to forward to the Secretary of the Army by July 18, 2003.

Public Participation at the Meeting: Those desiring to attend and make statements are advised to pre-register by e-mail, mail, fax, or phone by 5 p.m. e.d.t. June 27. Please provide name and the organization the speaker officially represents (if any) when registering to speak. E-mail tmcculloch@achp.gov; fax information to (202) 606-5072; or phone (202) 606-8505. Mail registrations should be sent to Dr. Tom McCulloch, ACHP, 1100 Pennsylvania Avenue, NW., Suite 803, Washington, DC 20004. Note that you are pre-registering for the Corps of Engineers meeting on July 1. Those not registering by June 27 will have the opportunity to sign up to make statements at the meeting, but pre-registrants will have speaking priority.

Written Comments: Written comments also will be accepted at the meeting. Those unable to attend, or who prefer to send written comments at another time, may submit them to the ACHP until 5 p.m. e.d.t. July 9, 2003. Written comments may be sent to the e-mail address, fax number, or office address listed above.

Dated: July 20, 2003.
John M. Fowler,
Executive Director.

[FR Doc. 03-16062 Filed 6-24-03; 8:45 am]

BILLING CODE 4310-10-M